DEPARTMENT OF COMMERCE

National Oceanic and Atmospheric Administration

[RTID 0648-XD260]

Fisheries of the Gulf of Mexico; National Marine Fisheries Service—Public Meetings

AGENCY: National Marine Fisheries Service (NMFS), National Oceanic and Atmospheric Administration (NOAA), Commerce.

ACTION: Notice of public meeting.

SUMMARY: The National Marine Fisheries Service will hold an in-person Gulf of Mexico shrimp listening session on September 20, 2023.

DATES: The listening session will be held on Wednesday, September 20, 2023, from 4 p.m. until 7 p.m. EDT.

ADDRESSES: Meeting address: The meeting is open to members of the public. The listening session will be held at the Gulf of Mexico Fishery Management Council, 4107 W Spruce St. #200, Tampa, FL 33607. Those interested in participating should contact Molly Stevens (see FOR FURTHER INFORMATION CONTACT below).

FOR FURTHER INFORMATION CONTACT: Molly Stevens, Lead Shrimp Assessment Analyst, NMFS Southeast Fisheries Science Center, 305-361-4489, molly.stevens@noaa.gov.

SUPPLEMENTARY INFORMATION: NMFS is embarking on a stakeholder listening session to generate local ecological knowledge on the Gulf of Mexico shrimp fishery. Stakeholder input will serve to inform the research-track stock assessment for Gulf of Mexico shrimp. The goal of this listening session is to increase information flow from fishermen and stakeholders to scientists and managers to support improved fishery resources in the Gulf of Mexico.

Special Accommodations

These meetings are physically accessible to people with disabilities. Requests for auxiliary aids should be directed to Molly Stevens (see FOR FURTHER INFORMATION CONTACT above) 5 days prior to the meeting.

Note: the times and sequence specified in this agenda are subject to change.

Authority: 16 U.S.C. 1801 et seq.

Dated: August 10, 2023.
Jennifer M. Wallace,
Acting Director, Office of Sustainable Fisheries, National Marine Fisheries Service.

[FR Doc. 2023-17537 Filed 8-15-23; 8:45 am]

BILLING CODE 3510-22-P